FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 13, 2021.

A. Federal Reserve Bank of Chicago (Colette A. Fried, Assistant Vice President) 230 South LaSalle Street, Chicago, Illinois 60690-1414:

1. The Tom E. Marantz Exempt Trust and Tom E. Marantz, as trustee, Gregory Marantz, as trustee of the Gregory R. Marantz Spring Bancorp Irrevocable Trust, and Melissa Knoedler, as trustee of the Melissa L. Knoedler Spring Bancorp Irrevocable Trust, all of Springfield, Illinois; the Marla J. Marantz Exempt Trust and Marla J. Marantz, as trustee, both of Springfield, Missouri; and Jennifer Marantz, as trustee of the Jennifer A. Marantz Spring Bancorp Irrevocable Trust, both of St. Louis, Missouri; to join the Marantz family control group, a group acting in concert, to acquire voting shares of Spring Bancorp, Inc., and thereby indirectly acquire voting shares of Bank of Springfield, both of Springfield, Illinois.

B. Federal Reserve Bank of Kansas City (Jeffrey Imgarten, Assistant Vice President) 1 Memorial Drive, Kansas City, Missouri 64198-0001:

1. The Nancy A. Kvols Irrevocable Bank Trust, Ronald K. Kvols, trustee, and the Ronald K. Kvols Irrevocable Bank Trust, Nancy Kvols, trustee, all of Wisner, Nebraska; to become members of the Kvols/Ott/Cheney Family Group, a group acting in concert, to acquire voting shares of Citizens National Corporation, and thereby indirectly acquire voting shares of Citizens State Bank, both of Wisner, Nebraska.

Board of Governors of the Federal Reserve System, November 22, 2021.
Michele Taylor Fennell,
Deputy Associate Secretary of the Board.

[FR Doc. 2021-25814 Filed 11-24-21; 8:45 am]

BILLING CODE 6210-01-P